DEPARTMENT OF COMMERCE

National Oceanic and Atmospheric Administration

[Docket No. 021114275-2275-01]

Joint Hurricane Testbed (JHT) Opportunities for Transfer of Research and Technology Into Tropical Cyclone Analysis and Forecast Operations

Correction

In notice document 03-57 beginning on page 359 in the issue of Friday, January 3, 2003, make the following corrections:

1. On page 360, in the first column, under the heading ADDRESSES, in the first line, “Preapplication” should read, “Preapplications”.

2. On the same page, in the second column, under the heading III. Program Description, in the first paragraph, in the 11th line, “PIs to responding” should read, “PIs responding”.

3. On the same page, in the same column, under the same heading, in the same paragraph, in the 13th line, “PIs allow” should read, “PIs to allow”.

4. On the same page, in the third column, under the same heading, in paragraph (2), in the first line, “for“ should read, “ by”.

5. On page 362, in the second column, under the heading VII. Award Period, in the first paragraph, in the 17th line from the bottom, “time line.” should read, “time line,”.

6. On the same page, in the same column, under the same heading, in the second paragraph, in the fourth line, “appropriately” should read, “approximately”.

7. On page 363, in the third column, under the heading IX. Evaluation Criteria, in paragraph D., in the first line, “Appropriations” should read, “Appropriateness”.

8. On the same page, in the same column, under the heading X. Selection Procedures, in the first paragraph, in the fourth line from the bottom, “Directors” should read, “Director”.

9. On page 364, in the first column, under the same heading, in the first paragraph, in the seventh line from the bottom, “applications” should read, “applicants”.

[FR Doc. C3-57 Filed 1-13-03; 8:45 am]

BILLING CODE 1505-01-D